DEPARTMENT OF THE INTERIOR

Bureau of Reclamation

American River Pump Station Project, Placer County, CA

AGENCY: Bureau of Reclamation, Interior.

ACTION: Notice of availability of the Draft Environmental Impact, DES 01-26 Statement/Environmental Impact Report (Draft EIS/EIR) and notice of public hearing.

SUMMARY: The U.S. Bureau of Reclamation (Reclamation) and the Placer County Water Agency (PCWA) have made available for public review and comment the Draft EIS/EIR for the American River Pump Station Project.

The proposed project would develop a pump station and related facilities on the North Fork American River near Auburn, California. The project would allow PCWA to convey its Middle Fork Project (MFP) water entitlement to the Auburn Ravine tunnel to meet demands within its service area; eliminate safety concerns associated with the Auburn Dam bypass tunnel; restore the dewatered portion of the North Fork American River at the Auburn Dam construction site; and provide river access sites in the project area. Both facilities- and diversion-related impacts are addressed in the Draft EIS/EIR.

DATES: Submit written comments on the Draft EIS/EIR on or before November 13, 2001 at the address provided below. A public hearing will be held from 7 p.m. to 9 p.m. on October 11, 2001. Oral or written comments will be received regarding the project's environmental effects.

ADDRESSES: The public hearing will be held at the Placer County Water Agency, 144 Ferguson Road, Auburn, CA 95604.

Written comments on the Draft EIS/EIR should be addressed to Ms. Carol Brown, Surface Water Resources, Inc., 2031 Howe Avenue, Suite 110, Sacramento, California 95825.

Copies of the Draft EIS/EIR may be requested from Ms. Brown at the above address or by calling (916) 563-6360. See SUPPLEMENTARY INFORMATION section for locations where copies of the Draft EIS/EIR are available for public inspection.

FOR FURTHER INFORMATION CONTACT: Mr. Roderick Hall, Reclamation, at (916) 989-7279, TDD (916) 989-7285, or e-mail: rhall@mp.usbr.gov; or Mr. Brent Smith, PCWA, at (530) 823-4889, or e-mail at Bsmith@pcwa.net.

SUPPLEMENTARY INFORMATION: The Draft EIS/EIR will address facilities-related impacts including the effects of project construction and operation on fish resources, vegetation and wildlife, water quality, recreation, visual and cultural resources, land use, geology and soils, traffic and circulation, air quality, noise, and public health and worker safety. Diversion-related impacts include the effects of increased diversions from the American River and associated changes in Reclamation's operation of Central Valley Project (CVP) facilities. Project diversions therefore may directly or indirectly affect the American and Sacramento River (including the Delta) resources including water supply, fish and aquatic habitat, riparian vegetation and habitat, water quality, recreation, visual and cultural resources, and power supply. The Draft EIS/EIR also evaluates potential urban development impacts for the PCWA water service area. An evaluation of cumulative hydrologic and water service area impacts associated with reasonably foreseeable American River actions is also included.

Copies of the Draft EIS/EIR are available for public inspection and review at the following locations:

• Auburn-Placer County Library, 350 Nevada Street, Auburn, CA 95603.

• El Dorado County Main Library, 345 Fair Lane, Placerville, CA 95667.

• Georgetown Divide Public Utility District, 6425 Main Street, Georgetown, CA 95634.

• Lincoln Library, 590 5th Street, Lincoln, CA 95648.

• Loomis Branch Library, 6050 Library Drive, Loomis, CA 95650.

• Penryn Library, 2215 Rippey Road, Penryn, CA 95663.

• Placer County Water Agency, 144 Ferguson Road, Auburn, CA 95604.

• Rocklin Library, 5460 5th Street, Rocklin, CA 95677.

• Sacramento Public Library, 828 I Street, Sacramento, CA 95814.

• U.S. Bureau of Reclamation, 7794 Folsom Dam Road, Folsom, CA 95630.

• U.S. Bureau of Reclamation, Denver Office Library, Building 67, Room 167, Denver Federal Center, 6th and Kipling, Denver, CO 80225; telephone: (303) 445-2072.

• U.S. Bureau of Reclamation, Office of Public Affairs, 2800 Cottage Way, Sacramento, CA 95825-1898; telephone: (916) 978-5100.

• Natural Resources Library, U.S. Department of the Interior, 1849 C Street NW, Main Interior Building, Washington, DC 20240-0001.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Hearing Process Information

The purpose of the public hearing is to provide the public with an opportunity to comment on environmental issues addressed in the Draft EIS/EIR. Written comments will also be accepted.

Dated: August 21, 2001.
Kirk C. Rodgers,
Acting Regional Director.

[FR Doc. 01-22977 Filed 9-12-01; 8:45 am]

BILLING CODE 4310-MN-P